NUCLEAR REGULATORY COMMISSION

Sunshine Act Meeting

AGENCY HOLDING THE MEETING: Nuclear Regulatory Commission.

DATE: Weeks of February 21, 28, March 6, and 13, 2000.

PLACE: Commissioners' Conference Room, 11555 Rockville Pike, Rockville, Maryland.

STATUS: Public and Closed.

MATTERS TO BE CONSIDERED:

Week of February 21

Tuesday, February 22

9:00 a.m.—Briefing on Threat Environment Assessment (Closed-Ex. 1)

10:30 a.m.—Discussion on Management Issues (Closed-Ex. 2&6)

11:00 a.m.—Briefing by the Executive Branch (Closed-Ex. 1)

Wednesday, February 23

8:55 a.m.—Affirmation Session (Public Meeting) (if needed)

9:00 a.m.—Briefing on Status of Spent Fuel Projects (Public Meeting) (Contact: William Brach, 301-415-8500)

11:00 a.m.—Discussion of Intragovernmental Issues (Closed-Ex. 9)

Week of February 28—Tentative

Tuesday, February 29

1:30 p.m.—Briefing on Draft 50.59 Regulatory Guide (Public Meeting) (Contact: Eileen McKenna, 301-415-2189)

Wednesday, March 1

9:00 a.m.—Briefing on Improvements in the Reactor Oversight Process (Public Meeting) (Contact: Bill Dean, 301-415-1257)

Thursday, March 2

9:25 a.m.—Affirmation/Discussion and Vote (Public Meeting) (if needed)

9:30 a.m.)—Meeting with ACRS on Risk Informing Part 50 (Public Meeting) (Contact: John Larkins, 301-415-7360)

Friday, March 3

9:30 a.m.—Briefing on Calvert Cliffs License Renewal (Public Meeting) (Contact: Chris Grimes, 301-415-1183)

Week of March 6—Tentative

Monday, March 6

1:30 p.m.—Meeting with NARUC (Public Meeting)

Week of March 13—Tentative

There are no meetings scheduled for the Week of March 13.

THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

The NRC Commission Meeting Schedule can be on the Internet at:

http://www.nrc.gov/SECY/smj/schedule.htm

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: February 21, 2000.
William M. Hill, Jr.,
SECY Tracking Officer, Office of the Secretary.

[FR Doc. 00-4570 Filed 2-23-00; 11:39 am]

BILLING CODE 7590-01-M